DEPARTMENT OF ENERGY

Federal Energy Regulatory Commission

Combined Notice of Filings #1

Take notice that the Commission received the following electric rate filings:

Docket Numbers: ER10-3297-001.

Applicants: Powerex Corporation.

Description: Powerex Corporation submits Notice of Non-Material Change in Status.

Filed Date: 1/5/12.

Accession Number: 20120105-5166.

Comments Due: 5 p.m. ET 1/26/12.

Docket Numbers: ER12-233-00.1

Applicants: Wolverine Power Supply Cooperative, Inc.

Description: Wolverine Power Supply Cooperative, Inc. submits tariff filing per 35: Compliance Filing of Amended and Restated Wholesale Power Contract to be effective 1/1/2012.

Filed Date: 1/6/12.

Accession Number: 20120106-5033.

Comments Due: 5 p.m. ET 1/27/12.

Docket Numbers: ER12-367-001.

Applicants: Niagara Mohawk Power Corporation.

Description: Amendment to Pleading, or, In the Alternative, Motion to Correct Filing, and Request for Clarification of National Grid USA.

Filed Date: 1/4/12.

Accession Number: 20120104-5148.

Comments Due: 5 p.m. ET 1/25/12.

Docket Numbers: ER12-458-000.

Applicants: Quantum Choctaw Power, LLC.

Description: Quantum Choctaw Power, LLC submits tariff filing per: SUPPLEMENT TO MBR APPLICATION to be effective N/A.

Filed Date: 1/6/12.

Accession Number: 20120106-5146.

Comments Due: 5 p.m. ET 1/27/12.

Docket Numbers: ER12-636-001.

Applicants: PJM Interconnection, L.L.C.

Description: PJM Interconnection, L.L.C. submits tariff filing per 35.17(b): Amendment to Quality Review Filing in Docket No. ER12-636 to be effective 2/18/2012.

Filed Date: 1/6/12.

Accession Number: 20120106-5150.

Comments Due: 5 p.m. ET 1/18/12.

Docket Numbers: ER12-766-000.

Applicants: Black Creek Hydro Inc.

Description: Notice of Cancellation of Black Creek Hydro, Inc. for market base rate and power sale agreements.

Filed Date: 1/5/12.

Accession Number: 20120105-5164.

Comments Due: 5 p.m. ET 1/26/12.

Docket Numbers: ER12-767-000.

Applicants: Cleco Power LLC.

Description: Cleco Power LLC submits tariff filing per 35.13(a)(2)(iii): MBR revision 2012.01.06 to be effective 1/6/2012.

Filed Date: 1/6/12.

Accession Number: 20120106-5039.

Comments Due: 5 p.m. ET 1/27/12.

Docket Numbers: ER12-768-000.

Applicants: Cleco Evangeline LLC.

Description: Cleco Evangeline LLC submits tariff filing per 35: MBR revision 2012.01.06 to be effective 1/6/2012.

Filed Date: 1/6/12.

Accession Number: 20120106-5042.

Comments Due: 5 p.m. ET 1/27/12.

Docket Numbers: ER12-769-000.

Applicants: Public Service Company of New Mexico.

Description: Public Service Company of New Mexico submits tariff filing per 35.13(a)(2)(iii): PNM Rate Schedule 168 to be effective 3/6/2012.

Filed Date: 1/6/12.

Accession Number: 20120106-5053.

Comments Due: 5 p.m. ET 1/27/12.

Docket Numbers: ER12-770-000.

Applicants: Midwest Independent Transmission System Operator, Inc.

Description: Midwest Independent Transmission System Operator, Inc. submits tariff filing per 35.13(a)(2)(iii): DEI Cert. of Concurrence to be effective 1/1/2012.

Filed Date: 1/6/12.

Accession Number: 20120106-5095.

Comments Due: 5 p.m. ET 1/27/12.

Docket Numbers: ER12-772-000.

Applicants: PacifiCorp.

Description: PacifiCorp submits tariff filing per 35.13(a)(2)(iii): Noble Americas Energy Solutions NITSA Rev 4 to be effective 1/1/2012.

Filed Date: 1/6/12.

Accession Number: 20120106-5106.

Comments Due: 5 p.m. ET 1/27/12.

Docket Numbers: ER12-773-000.

Applicants: PJM Interconnection, L.L.C.

Description: PJM Interconnection, L.L.C. submits tariff filing per 35.13(a)(2)(iii): Amendments to Schedule 12-Appendix re RTEP approved by the PJM Board 12/7/2011 to be effective 4/5/2012.

Filed Date: 1/6/12.

Accession Number: 20120106-5112.

Comments Due: 5 p.m. ET 1/27/12.

Docket Numbers: ER12-773-000.

Applicants: PJM Interconnection, L.L.C.

Description: Correction of Transmittal Letter of PJM Interconnection, L.L.C.

Filed Date: 1/6/12.

Accession Number: 20120106-5155.

Comments Due: 5 p.m. ET 1/27/12.

Docket Numbers: ER12-774-000.

Applicants: Midwest Independent Transmission System Operator, Inc.

Description: Midwest Independent Transmission System Operator, Inc. submits tariff filing per 35.13(a)(2)(iii): 01-06-12 Attachment MM-GRE to be effective 1/1/2012.

Filed Date: 1/6/12.

Accession Number: 20120106-5157.

Comments Due: 5 p.m. ET 1/27/12.

Docket Numbers: ER12-775-000.

Applicants: CPV Cimarron Renewable Energy Company, LLC.

Description: CPV Cimarron Renewable Energy Company, LLC submits tariff filing per 35.12: Initial MBR Tariff Filing to be effective 3/7/2012.

Filed Date: 1/6/12.

Accession Number: 20120106-5158.

Comments Due: 5 p.m. ET 1/27/12.

Docket Numbers: ER12-776-000.

Applicants: New York Independent System Operator, Inc., Niagara Mohawk Power Corporation.

Description: New York Independent System Operator, Inc. submits tariff filing per 35.15: Niagara Mohawk Notice of Termination of Nine Mile EPC Agreement to be effective 9/8/2011.

Filed Date: 1/6/12.

Accession Number: 20120106-5163.

Comments Due: 5 p.m. ET 1/27/12.

Docket Numbers: ER12-777-000.

Applicants: Alabama Power Company.

Description: Alabama Power Company submits tariff filing per 35.13(a)(2)(iii): SWE (Hampton) 2012 NITSA Filing to be effective 1/1/2012.

Filed Date: 1/6/12.

Accession Number: 20120106-5182.

Comments Due: 5 p.m. ET 1/27/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 6, 2012.
Nathaniel J. Davis, Sr.,
Deputy Secretary.

[FR Doc. 2012-703 Filed 1-13-12; 8:45 am]

BILLING CODE 6717-01-P